DEPARTMENT OF TRANSPORTATION

Federal Railroad Administration

[Docket Number FRA-2020-0084]

Notice of Application for Approval of Discontinuance or Modification of a Railroad Signal System

Under part 235 of title 49 of the Code of Federal Regulations (CFR) and 49 U.S.C. 20502(a), this document provides the public notice that by a document dated September 11, 2020, CSX Transportation (CSXT) petitioned the Federal Railroad Administration (FRA) seeking approval to discontinue or modify a signal system. FRA assigned the petition Docket Number FRA-2020-0084.

Applicant: CSX Transportation, Mr. Carl A. Walker, Chief Engineer Communications & Signals, 500 Water Street, Speed Code J-350, Jacksonville, Florida 32202.

Specifically, CSXT requests permission to discontinue the use of the automatic train control (ATC) segment of the cab signal systems (CSS) onboard equipped CSXT locomotives that operate on the RF&P subdivision, located between Richmond, Virginia, and Washington, DC.

CSXT states that discontinuing the use of ATC when operating on the RF&P will provide a standardized operation across all CSS-equipped CSXT locomotives, enhancing reliability and safety. This standardization will enhance safety by reducing maintenance due to failures, train crew cutouts, and line of road equipment failure.

CSS with the ATC segment removed will still stop the train if the locomotive operator does not acknowledge any signal downgrade, even if the positive train control (PTC) system is cutout. CSXT implemented the I-ETMS PTC system on the RF&P in October 2018. Wayside signal cab generators, locomotive cab signal equipment, and automatic train stop will remain.

A copy of the petition, as well as any written communications concerning the petition, is available for review online at www.regulations.gov.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation (DOT), 1200 New Jersey Ave. SE, W12-140, Washington, DC 20590.

• Hand Delivery: 1200 New Jersey Ave., SE, Room W12-140, Washington, DC 20590, between 9 a.m. and 5 p.m., Monday through Friday, except Federal Holidays.

Communications received by December 21, 2020 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
John Karl Alexy,
Associate Administrator for Railroad Safety, Chief Safety Officer.

[FR Doc. 2020-24558 Filed 11-4-20; 8:45 am]

BILLING CODE 4910-06-P